ENVIRONMENTAL PROTECTION AGENCY

[FRL-9916-25-ORD]

EPA Board of Scientific Counselors Advisory Board; Notice of Charter Renewal

AGENCY: Environmental Protection Agency (EPA).

ACTION: Notice of Charter Renewal.

Notice is hereby given that the Environmental Protection Agency (EPA) has determined that, in accordance with the provisions of the Federal Advisory Committee Act (FACA), 5 U.S.C. App. 2, the EPA Board of Scientific Counselors (BOSC) Advisory Board is a necessary committee which is in the public interest. Accordingly, the BOSC will be renewed for an additional two-year period. The purpose of the BOSC is to provide advice and recommendations to the Administrator, through the Assistant Administrator of the Office of Research and Development (ORD), regarding ORD science and engineering research, programs and plans, laboratories, and research management practices. Inquiries may be directed to Tom Tracy, U.S. EPA, (Mail Code 8104R), 1200 Pennsylvania Avenue NW., Washington, DC 20460, telephone (202) 564-6518, or tracy.tom@epa.gov.

Dated: April 24, 2014.
Lek Kadeli,
Acting Assistant Administrator, Office of Research and Development.

Editorial Note: This document was received for publication by the Office of Federal Register on September 3, 2014.

[FR Doc. 2014-21298 Filed 9-5-14; 8:45 am]

BILLING CODE 6560-50-P